DEPARTMENT OF ENERGY

Federal Energy Regulatory Commission

[Docket No. EL11-2-000]

Michigan Electric Transmission Company, LLC; Notice of Petition for Declaratory Order

October 20, 2010.

Take notice that on October 18, 2010, Michigan Electric Transmission Company, LLC (METC) filed a Petition for Declaratory Order requesting that the Federal Energy Regulatory Commission (Commission): (1) Find that due to the operation of the Commission's no loss policy with regard to time-value repayments, METC only owes time-value repayments to Consumers Energy Company (Consumers) under the proposed Agency Agreement,¹ (2) find the Midland Cogeneration Venture Limited Partnership (Midland) owes METC in unpaid amounts for services that METC rendered to Midland, and (3) find that the METC's late filing of the proposed Agency Agreement does not render the service provided under it null and void.

¹ METC filed a proposed Agency Agreement with the Commission on October 18, 2010, in Docket No. ER11-136-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 17, 2010.

Kimberly D. Bose,
Secretary.

[FR Doc. 2010-27119 Filed 10-26-10; 8:45 am]

BILLING CODE 6717-01-P